ENVIRONMENTAL PROTECTION AGENCY

[FRL-7563-5]

Availability of FY 02 Grant Performance Reports for States of Alabama, Florida, Mississippi and South Carolina; All Local Agencies Within the States of Alabama, Florida, and Tennessee; and the Local Agencies of Western North Carolina and Mecklenburg County in the State of North Carolina

AGENCY: Environmental Protection Agency (EPA).

ACTION: Notice of availability of grantee performance evaluation reports.

SUMMARY: EPA's grant regulations (40 CFR 35.150) require the Agency to evaluate the performance of agencies which receive grants. EPA's regulations for regional consistency (40 CFR 56.7) require that the Agency notify the public of the availability of the reports of such evaluations. EPA performed end-of-year evaluations of four state air pollution control programs (Alabama Department of Environmental Management; Florida Department of Environmental Protection; Mississippi Department of Environmental Quality; and South Carolina Department of Health and Environmental Control); and 14 local programs (City of Huntsville Division of Natural Resources, AL; Jefferson County Department of Health, AL; Broward County Department of Planning and Environmental Protection, FL; Jacksonville Air and Water Quality Division, FL; Hillsborough County Environmental Protection Commission, FL; Dade County Air Quality Management Division, FL; Palm Beach County Health Department, FL; Pinellas County Department of Environmental Management, FL; Mecklenburg County Land Use and Environmental Services Agency, NC; Western North Carolina Regional Air Quality Agency, NC; Chattanooga-Hamilton County Air Pollution Control Bureau, TN; Memphis/Shelby County Health Department, TN; Knox County Department of Air Quality Management, TN; and Nashville-Davidson County Metropolitan Public Health Department, TN). The 18 evaluations were conducted to assess the agencies' performance under the grants awarded by EPA under authority of section 105 of the Clean Air Act. EPA Region 4 has prepared reports for each agency identified above and these reports are now available for public inspection. The evaluations for the remainder of the State and local governments will be published at a later date.

ADDRESSES: The reports may be examined at the EPA's Region 4 office, 61 Forsyth Street, SW., Atlanta, Georgia 30303, in the Air, Pesticides, and Toxics Management Division.

FOR FURTHER INFORMATION CONTACT: Marie Persinger (404) 562-9048 for information concerning the State of Alabama; Gloria Knight (404) 562-9064 for the States of Florida and Mississippi; Mary Fox (404) 562-9053 for the State of North Carolina; and Rayna Brown (404) 562-9093 for the States of South Carolina and Tennessee. They may be contacted at the above Region 4 address.

Dated: September 10, 2003.
A. Stanley Meiburg,
Deputy Regional Administrator, Region 4.

[FR Doc. 03-24411 Filed 9-26-03; 8:45 am]

BILLING CODE 6560-50-P